VETERANS AFFAIRS DEPARTMENT

Veterans' Advisory Committee on Rehabilitation (VACOR); Notice of Meeting

The Department of Veterans Affairs (VA) gives notice under Public Law 92-463 (Federal Advisory Committee Act) that a meeting of the Veterans' Advisory Committee on Rehabilitation will be held on May 21-22, 2008, at the Department of Veterans Affairs, 811 Vermont Avenue, Washington, DC. The meeting sessions will be held in the Kenneth Eaton Room 819, from 8 a.m. to 4:30 p.m. on May 21 and 8 a.m. to 1 p.m. on May 22. The meeting is open to the public.

The purpose of the Committee is to provide recommendations to the Secretary of Veterans Affairs on the rehabilitation needs of veterans with disabilities and on the administration of VA's rehabilitation programs.

During the meeting, committee members will be briefed on various VA rehabilitation-related initiatives. The Committee will also be discussing research on rehabilitation needs of veterans with disabilities.

No time will be allocated at this meeting for oral presentations from the public. Any member of the public wishing to attend the meeting is requested to contact Mr. Joseph Tucker, Designated Federal Officer, at (202) 461-9637. The Committee will accept written comments. Comments can be addressed to Mr. Tucker at the Department of Veterans Affairs, Veterans Benefits Administration (28), 810 Vermont Avenue, NW., Washington, DC 20420. In communication with the Committee, writers must identify themselves and state the organizations, associations, or person(s) they represent.

By Direction of the Secretary.
Dated: April 21, 2008.
E. Philip Riggin,
Committee Management Officer.

[FR Doc. E8-8996 Filed 4-24-08; 8:45 am]

BILLING CODE 8320-01-M